INTERNATIONAL TRADE COMMISSION

[Investigation No. 337-TA-869]

Certain Robotic Toys and Components Thereof; Commission Determination Not To Review an Initial Determination Granting a Joint Motion for Termination of the Investigation; Entry of Consent Orders; Termination of the Investigation

AGENCY: U.S. International Trade Commission.

ACTION: Notice.

SUMMARY: Notice is hereby given that the U.S. International Trade Commission has determined not to review the administrative law judge's (“ALJ”) initial determination (“ID”) (Order No. 11) granting a joint motion to terminate the investigation in its entirety and has entered consent orders.

FOR FURTHER INFORMATION CONTACT: Jia Chen, Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 11, 2013, based on a complaint filed by Innovation First International, Inc.; Innovation First, Inc.; and Innovation First Labs, Inc., all of Greenville, Texas. The complaint alleges violations of section 337 of the Tariff Act of 1930 (19 U.S.C. 1337) by reason of misappropriation of trade secrets. The respondents named in the notice of investigation are CVS Pharmacy Inc. of Woonsocket, Rhode Island; Zuru Inc. of Road Town, Tortola, British Virgin Islands; Zuru Ltd. of Kowloon, Hong Kong; and Zuru Toys Inc. of Cambridge, New Zealand.

On June 3, 2013, the complainants and respondents filed a joint motion to terminate the investigation in its entirety based on the consent order stipulations, proposed consent orders, and settlement agreements attached to the motion. In the motion, the parties stated that there are no other agreements, written or oral, express or implied between the parties concerning the subject matter of the investigation.

On June 14, 2013, the Commission investigative attorney (“IA”) filed a response in conditional support of the joint motion, provided that the parties modify the proposed consent orders to specify the activities authorized by the settlement agreements between the parties. On June 21, 2013, complainants and respondents jointly moved for leave to file a reply to the IA's response to the joint motion. On June 24, 2013, the IA indicated to the ALJ that given the changes made to the consent orders submitted with the parties' reply, the IA does not oppose the joint motion to terminate.

On July 1, 2013, the ALJ issued the subject ID granting the joint motion. The ALJ found that there is good cause for terminating the investigation, and that he is not aware of any extraordinary circumstances that would preclude granting the motion. The ALJ further found that entry of the proposed consent orders and termination of the investigation is in the public interest. On July 9, 2013, the ALJ issued a corrected version of the subject ID to include the revised versions of the consent orders. No petitions for review were filed.

The Commission has determined not to review the ID.

The authority for the Commission's determination is contained in section 337 of the Tariff Act of 1930, as amended (19 U.S.C. 1337), and in section 210.42 of the Commission's Rules of Practice and Procedure (19 CFR 210.42).

By order of the Commission.
Issued: July 19, 2013.
Lisa R. Barton,
Secretary to the Commission.

[FR Doc. 2013-17847 Filed 7-24-13; 8:45 am]

BILLING CODE 7020-02-P